DEPARTMENT OF ENERGY

Federal Energy Regulatory Commission

[Project No. 2790-072]

Boott Hydropower, LLC; Notice of Comment Period Extension

On January 28, 2019, Boot Hydropower, LLC filed a revised study plan in support of the re-licensing process for the Lowell Hydroelectric Project No. 2790. Pursuant to 18 CFR 5.13(b), participants may file comments within 15 days of the date the potential applicant files the revised study plan; and pursuant to 18 CFR 5.13(c), the Director of Energy Projects will issue a study plan determination within 30 days of the date the potential applicant files its revised study plan. Due to the funding lapse at certain federal agencies between December 22, 2018 and January 25, 2019, the Commission is extending the comment period on the revised study plan to February 27, 2019, and the issuance date for the Director's study plan determination to March 14, 2019.

Dated: February 8, 2019.
Kimberly D. Bose,
Secretary.

[FR Doc. 2019-02336 Filed 2-13-19; 8:45 am]

BILLING CODE 6717-01-P